DEPARTMENT OF ENERGY

Federal Energy Regulatory Commission

18 CFR Part 40

[Docket No. RM14-7-000]

Modeling, Data, and Analysis Reliability Standards

AGENCY: Federal Energy Regulatory Commission.

ACTION: Notice of proposed rulemaking; correction.

SUMMARY: This document contains corrections to the proposed rule (RM14-7-000) which was published in the Federal Register of Thursday, June 26, 2014 (79 FR 36269). The regulations propose to approve Modeling, Data, and Analysis Reliability Standard MOD-001-2 developed by the North American Electric Reliability Corporation.

DATES: Comments are due August 25, 2014.

FOR FURTHER INFORMATION CONTACT: Michael Gandolfo (Technical Information), Office of Electric Reliability, Federal Energy Regulatory Commission, 888 First Street NE., Washington, DC 20426, Telephone: (202) 502-6817, Michael.Gandolfo@ferc.gov. Robert T. Stroh (Legal Information), Office of the General Counsel, Federal Energy Regulatory Commission, 888 First Street NE., Washington, DC 20426, Telephone: (202) 502-8473, Robert.Stroh@ferc.gov.

SUPPLEMENTARY INFORMATION:

Need for Correction

On June 19, 2014, the Commission issued a “Notice of Proposed Rulemaking” in the above-captioned proceeding, Modeling, Data, and Analysis Reliability Standards, 147 FERC ¶ 61,208 (2014) (NOPR).

This errata notice serves to correct paragraphs 17 and 19.

In proposed rule FR Doc. 2014-14850, beginning on page 36269 in the issue of June 26, 2014, make the following corrections:

In paragraph 17 on page 36271 in the third column, the following is inserted as a footnote at the end of the first sentence: “The proposed Reliability Standard MOD-001-2 will increase paperwork burden and the number of responses to FERC-725L (OMB Control No. 1902-0261) and the retirement of the current MOD Reliability Standards will decrease the paperwork burden and the number of responses to FERC-725A (OMB Control No. 1902-0244).” Accordingly, all subsequent footnote numbers are numerically revised to reflect this additional footnote.

In addition, on page 36272 of the NOPR in the first column, “changes to FERC-725A and” is inserted after “Proposed” in the “Action” field, and “1902-0244 and” is inserted into the “OMB Control No.” field before the OMB control number that is already present.

In paragraph 19 on page 36272 in the third column, in the last sentence, remove “FERC-725Q” and insert the following “FERC-725A (OMB Control No. 1902-0244), FERC-725L (OMB Control No. 1902-0261).”

Dated: August 6, 2014.
Kimberly D. Bose,
Secretary.

[FR Doc. 2014-19226 Filed 8-13-14; 8:45 am]

BILLING CODE 6717-01-P